ENVIRONMENTAL PROTECTION AGENCY

[FRL-9966-77-Region 9]

Clean Air Act Operating Permit Program; Petition for Objection To Proposed Permit for Chevron USA Inc.—7Z Steam Plant, San Joaquin Valley Unified Air Pollution Control District

AGENCY: Environmental Protection Agency (EPA).

ACTION: Notice of final action.

SUMMARY: This document announces that the Environmental Protection Agency (EPA) Administrator has responded to a citizen petition asking the EPA to object to the proposed issuance of an Authority to Construct/Certificate of Conformity (Permit) issued by the San Joaquin Valley Unified Air Pollution Control District (SJVUAPCD). Specifically, the Administrator has denied the July 7, 2016 petition (Petition), submitted by the Climate Change Law Foundation, Association of Irritated Residents, Center for Biological Diversity, and Sierra Club to object to SJVUAPCD's proposed issuance of the Permit for the Chevron USA Inc.—7Z Steam Plant in Kern County, California.

ADDRESSES: Copies of the final Order, the Petition, and other supporting information is available electronically at the following Web site: https://www.epa.gov/title-v-operating-permits/title-v-petition-database.

The EPA requests that you contact the individual listed in the FOR FURTHER INFORMATION CONTACT section to view copies of the final Order, Petition, and other supporting information. You may view the hard copies Monday through Friday, from 9 a.m. to 3 p.m., excluding Federal holidays. If you wish to examine these documents, you should make an appointment at least 24 hours before the visiting day. Additionally, the final Order is available electronically at: https://www.epa.gov/sites/production/files/2017-04/documents/chevron_response2016_0.pdf.

FOR FURTHER INFORMATION CONTACT: Laura Yannayon, EPA Region IX, (415) 972-3534, yannayon.laura@epa.gov.

SUPPLEMENTARY INFORMATION: SJVUAPCD Rule 2201 affords the EPA a 45-day period to review and object to, as appropriate, a proposed permit. Rule 2201 § 5.9.1. If the EPA does not object, Rule 2201 allows any person to petition the EPA, within 60 days, to object to the proposed permit. Petitions must be based only on objections to the permit that were raised with reasonable specificity during the public comment period, unless the petitioner demonstrates that it was impracticable to raise these issues during the comment period, or the grounds for the issue arose after this period.

The EPA received the Petition dated July 7, 2016, requesting that the EPA object to the proposed issuance of the Permit to Chevron USA Inc., for modifications to its 7Z Steam Plant, located in Kern County, California. In summary, the Petition claimed that certain emission reduction credits used in the permitting process were invalid.

On April 24, 2017, the Administrator issued an order denying the Petition. The EPA's rationale for denying the claims raised in the petition are described in the Order.

Dated: August 11, 2017.
Alexis Strauss,
Acting Regional Administrator, Region IX.

[FR Doc. 2017-18286 Filed 8-28-17; 8:45 am]

BILLING CODE 6560-50-P